DEPARTMENT OF LABOR

Agency Information Collection Activities; Submission for OMB Review; Comment Request, Strengthening Community Colleges Training Grant Program Round 4 (SCC4) Evaluation, New Collection

AGENCY: Office of Employment and Training Administration, Chief Evaluation Office, Department of Labor.

ACTION: Notice of information collection; request for comment.

SUMMARY: The Department of Labor (DOL), as part of its continuing effort to reduce paperwork and respondent burden, conducts a preclearance consultation program to provide the general public and federal agencies with an opportunity to comment on proposed and/or continuing collections of information in accordance with the Paperwork Reduction Act of 1995 (PRA95). This program helps to ensure that requested data can be provided in the desired format, reporting burden (time and financial resources) is minimized, collection instruments are clearly understood, and the impact of collection requirements on respondents is properly assessed. Currently, the Department of Labor is soliciting comments concerning the collection of data for an evaluation of the fourth round of the Strengthening Community Colleges Training Grants Program. A copy of the proposed Information Collection Request (ICR) can be obtained by contacting the office listed below in the addressee section of this notice.

DATES: Written comments must be submitted to the office listed in the addressee section below on or before January 21, 2025.

ADDRESSES: You may submit comments by either one of the following methods:

Email: ChiefEvaluationOffice@dol.gov; Mail or Courier: Suchitra Akmanchi, Chief Evaluation Office, OASP, U.S. Department of Labor, Room S-2312, 200 Constitution Avenue NW, Washington, DC 20210. Instructions: Please submit one copy of your comments by only one method. All submissions received must include the agency name and OMB Control Number identified above for this information collection. Comments, including any personal information provided, become a matter of public record. They will also be summarized and/or included in the request for OMB approval of the information collection request.

FOR FURTHER INFORMATION CONTACT: Suchitra Akmanchi by email at ChiefEvaluationOffice@dol.gov or by phone at (202) 693 8935.

SUPPLEMENTARY INFORMATION:

I. Background: The Chief Evaluation Office (CEO) and the Employment and Training Administration (ETA) in the U.S. Department of Labor (DOL) are partnering to commission an evaluation of the fourth round of the Strengthening Community Colleges Training Grants Program (SCC4). The program, which awarded grants to sixteen community college grantees, aims to enable community colleges to adopt and enhance evidence-based career pathways programs that lead to equitable access to employment opportunities in good jobs aligned with locally in-demand industries. The SCC4 evaluation will shed light on which programs are effective for which types of students, why they are effective, and the core components that support success. In addition, SCC4 will build on existing evidence regarding successful programs in community college settings and advance the understanding of how career pathways programs promote equitable outcomes. The SCC4 Evaluation includes two components: (1) an impact study to measure the effects of SCC4 grant program strategies on participant outcomes and (2) an implementation study to understand program implementation. The impact study will include both a quasi-experimental design (QED) and a randomized controlled trial (RCT) each with a subset of grantees. Impact study grantees were identified during an evaluability assessment in summer 2024, during which they were assessed on a series of criteria including the potential number of enrolled students, interest in and feasibility of random assignment of students to treatment and control service groups, and a notable difference in the services available to treatment and control group students. Five community college sites from four grantees will be included in the RCT portion of the study. Twelve grantees will be included in the QED study. The implementation study will include all sixteen grantees and examine the context of SCC4 programs, including how grantees integrate employer perspectives and student voice to shape programming. The evaluation will occur over four years (2024 to 2028). The evaluation will rely on rigorous study procedures and high-quality data. To facilitate these studies, the evaluation will use several instruments, which will be used during site visits, phone calls, and surveys with SCC4-involved staff and participating students.

This Federal Register Notice provides the opportunity to comment on the following proposed data collection instruments that the evaluation will use:

Impact Study:

1. Participant baseline survey and consent form. Survey of 6,000 impact study participants to collect basic demographic information, interest in receiving support services, and current employment and earnings information.

2. Participant follow-up survey. Follow-up survey of 1,800 impact study participants focused on job quality, job characteristics, and overall well-being.

3. Service receipt logs. As part of the impact study data, grantee staff will track information frequency and type of the services they provide to participants. Fifteen grantee staff across the five participating impact study sites, will be responsible for inputting information into these logs.

Implementation Study:

The implementation study will use the following data collections to understand the education and economic context surrounding the program, the organization and administrative structure, recruitment and enrollment, partnerships, employer engagement and work-based learning, integrated academic and career learning, academic and career counseling, wrap-around services, and program sustainability.

4. Grantee survey. Survey of a lead contact each of the 16 grantees to collect program information on service delivery models, staffing, partnerships, and the implementation of the main program elements.

5. Semi-structured interview guide for college administrators and program directors. During the two rounds of site visits to impact study sites and phone calls with non-impact study sites calls, we will conduct one-on-one or small group, semi-structured interviews with up to 80 college administrators and program directors.

6. Semi-structured interview guide for instructors and faculty. During the two rounds of site visits with impact study sites and phone calls with non-impact study sites, we will conduct one-on-one or small group, semi-structured interviews with up to 64 instructors and faculty for SCC4 programs.

7. Semi-structured interview guide for SCC4 participants. During the two rounds of site visits with impact study sites and phone calls with non-impact study sites, we will conduct one-on-one or small group, semi-structured interviews with up to 64 SCC4 participants.

8. Semi-structured interview guide for college staff. During the two rounds of site visits with impact study sites and phone calls with non-impact study sites, we will conduct one-on-one or small group, semi-structured interviews with up to 80 college staff providing services to SCC4 students, such as staff in student support services or the admissions office.

9. Semi-structured interview guide for external constituents. During the two rounds of site visits with impact study sites and phone calls with non-impact study sites, we will conduct one-on-one or small group, semi-structured interviews with up to 80 external constituents who may interact with SCC4 students, or support implementation of SCC4 programs, such as employer partners.

II. Desired Focus of Comments: Currently, the Department of Labor is soliciting comments concerning the above data collection for the Sectoral Strategies and Employer Engagement Portfolio Program Evaluation. DOL is particularly interested in comments that do the following:

○ evaluate whether the proposed collection of information is necessary for the proper performance functions of the agency, including whether the information will have practical utility;

○ evaluate the accuracy of the agency's burden estimate of the proposed information collection, including the validity of the methodology and assumptions;

○ enhance the quality, utility, and clarity of the information to be collected; and

○ minimize the burden of the collection of information on those who are to respond, including through the use of appropriate automated, electronic, mechanical, or other technological collection techniques or other forms of information technology—for example, permitting electronic submissions of responses.

III. Current Actions: At this time, DOL is requesting clearance for the participant baseline survey and consent form, the participant follow-up survey, service receipt logs, the grantee survey, and semi-structured interview guides.

Type of review: New information collection request.

OMB Control Number: 1290-0NEW.

Affected Public: Individuals or households.

Comments submitted in response to this request will be summarized and/or included in the request for Office of Management and Budget approval of the information collection request; they will also become a matter of public record.

Estimated Annual Burden Hours
Instrument | Number of respondents | Frequency of response | Total number responses | Average burden per response (hour) | Estimated total annual burden (hours)
Participant baseline survey | ¹ 6,000 | 1 | 6,000 | .16 | 320
Participant follow-up survey | ² 1,800 | 1 | 1,800 | .33 | 198
Service receipt logs | ³15 | 2,600 | 39,000 | .05 | 650
Grantee survey | ⁴ 16 | 1 | 16 | .5 | 3
College administrator and program director interviews | ⁵ 80 | 2 | 160 | .75 | 40
Instructors and faculty interviews | ⁶ 64 | 2 | 128 | .75 | 32
Participant interviews | ⁷ 64 | 2 | 128 | .75 | 32
College staff interviews | ⁸ 80 | 2 | 160 | .75 | 32
External constituent interviews | ⁹ 80 | 2 | 160 | .75 | 40
Total | 8,199 |  | 47,552 |  | 1,347
¹ Assumes a total of 6,000 impact study participants over the three-year clearance period.
² Assumes a sample of 6,000 with a 30 percent response rate for a total of 1,800 impact study participants over the three-year clearance period.
³ Assumes 3 staff per 5 impact study sites over the three-year clearance period.
⁴ Assumes 1 program director per 16 grantees over the three-year clearance period.
⁵ Assumes 5 college administrator or program directors per 16 grantees over the three-year clearance period.
⁶ Assumes 4 instructors and faculty per 16 grantees over the three-year clearance period.
⁷ Assumes 4 SCC4 participants per 16 grantees over the three-year clearance period
⁸ Assumes 5 college staff per 16 grantees over the three-year clearance period.
⁹ Assumes 5 external constituents per 16 grantees over the three-year clearance period.

Alix Gould-Werth,
Chief Evaluation Officer,U.S. Department of Labor.

[FR Doc. 2024-27044 Filed 11-19-24; 8:45 am]

BILLING CODE 4510-HX-P